DEPARTMENT OF COMMERCE

Census Bureau

Shipper's Export Declaration Program

ACTION: Proposed collection; comment request.

SUMMARY: The Department of Commerce, as part of its continuing effort to reduce paperwork and respondent burden, invites the general public and other Federal agencies to take this opportunity to comment on proposed and/or continuing information collections, as required by the Paperwork Reduction Act of 1995, Public Law 104-13 (44 U.S.C. 3506(c)(2)(A)).

DATES: Written comments must be submitted on or before June 27, 2000.

ADDRESSES: Direct all written comments to Linda Engelmeier, Departmental Forms Clearance Officer, Department of Commerce, Room 5033, 14th and Constitution Avenue, NW, Washington, DC 20230 (or via the Internet at LEngelme@doc.gov).

FOR FURTHER INFORMATION CONTACT: Requests for additional information or copies of the information collection instrument(s) and instructions should be directed to Jerome Greenwell, U.S. Census Bureau, Room 3125, Federal Office Building No. 3, Washington, DC 20233-0001, 301-457-2238.

SUPPLEMENTARY INFORMATION:

I. Abstract

The Shipper's Export Declaration (SEDs), Forms 7525-V, 7525-V-Alternate (Intermodal), and the electronic equivalent, the Automated Export System (AES) are the basis for the official export trade statistics compiled by the U.S. Census Bureau (Census Bureau). Title 13, United States Code, Chapter 9, Sections 301-307 authorizes the collection of all these data. Title 15, Code of Federal Regulations, Part 30 contains the regulatory provisions for preparing and filing the SED or the AES record. The Census Bureau has the primary responsibility for the collection, compilation and publication of the official statistics on U.S. exports used for determining the balance of trade, a principal economic indicator. These data are essential in formulating basic government policy decisions affecting the economy. U.S. businesses rely heavily on these data to develop export leads, export marketing strategies and assessing the impact of exports on the domestic economy.

The statistical information on the SED or the AES record shows what is being exported (description and commodity classification number), how much (quantity, gross weight and value), how it is being exported (mode of transportation, exporting carrier and whether containerized), from where (state of origin, and port of export), to where (port of unloading and country of ultimate destination), and when (date of exportation). The identification of the exporter, forwarding agent, and consignee provide contacts for verification of the statistical information. The Census Bureau uses every data element on the SED/AES record for statistical purposes only. Other Government agencies may use the SED/AES information for export control purposes, and/or to obtain trade information to avoid conducting additional surveys.

The SED/AES records are also used for export control purposes under Title 50, United States Code and are used to detect and prevent the export of certain commodities (for example, high technology or military goods) to unauthorized destinations or end users. The SED/AES records, as official documents or export transactions, enable the U.S. Customs Service (Customs) and the Bureau of Export Administration (BXA) to enforce the Customs and Export Administration Regulations and thereby detect and prevent the export of high technology commodities to unauthorized destinations. The Department of State uses the SED/AES information to enforce the International Traffic in Arms Regulations (ITAR) to detect and prevent the export of arms and ammunition to unauthorized destinations.

In the past, each different type of paper SED was cleared separately. In recent years the number of submissions via automated programs, the Automated Export Reporting Program (AERP) operated by the Census Bureau and the new Automated Export System operated jointly by the Census Bureau and Customs, have grown rapidly and are now considered as part of SED submissions. With the rapid growth of the AES, the Census Bureau discontinued the AERP program as of December 31, 1999. Filers using the AERP program, which was strictly used for Census Bureau statistical collection purposes, are now filing their information through the AES, paper documents, or are in the process of converting to the AES.

The authority for clearance of the Shipper's Export Declaration for In-Transit Goods, Form 7513, which serves as the source document from which the official U.S. statistics on outbound in-transit waterborne shipments is collected and compiled has been transferred to the U.S. Army Corps of Engineers (Corps). This program was transferred to the Corps, as they are the primary users of the in-transit data.

With this submission the Census Bureau is requesting clearance for the reporting of export data: (1) using the two types of paper SEDs, Form 7525-V and Form 7525-V Alternate (Intermodal); and (2) through the AES. The Census Bureau is eliminating clearances for the AERP program and for the in-transit Form 7513, which were included in our previous submission.

II. Method of Collection

A paper SED or electronic AES record is required for all export shipments valued over $2,500 from the United States, Puerto Rico, and the U.S. Virgin Islands. The SED or AES record is also required for all licensed shipments, (i.e. State Department or Bureau of Export Administration export licenses) regardless of value. The SED program is unique among Census Bureau statistical collections since it is not sent to respondents soliciting responses as is the case in surveys. Filing the SED/AES information is mandatory under Title 13, Chapter 9 of the United States Code. Over 5.5 million paper SEDs, over 2.5 million automated AES records and over 5.5 million automated AERP records were submitted in 1999. In addition, data for over 63,000 exporters has been filed by participants in AES and AERP during 1999. For this reason the Census Bureau attempts to avoid frequent changes in data content and format. The paper SEDs have been in continuous use since 1985 with minor revisions in 1988. The AES format has been in use since 1995 and the format has been approved by the trade community through a series of Interest Based Negotiation meetings. Exporters can purchase the paper SEDs or they may have them privately printed. They can also download the SED forms over the Internet and print them on the required “buff” colored paper.

For this submission, the Census Bureau is planning revisions to the paper SED forms to bring them up to date with current regulatory and policy changes reflected by the implementation of the AES. The changes include: (1) Revising box 1a (7525-V) and box 2 (7525-V-ALT) to read “Exporter (U.S. Principal Party In Interest)” (2) revising box 1b (7525-V) and box 7 (7525-V-ALT) to read “Exporter's EIN (IRS) or ID No”; (3) adding an “M” indicator code to box 16 (7525-V) and box 23 (7525-V-ALT) for Foreign Military Sales Shipments; (4) deleting the check digit field on both forms, and replacing it with a field for the Export Information Code “(EIC)”; (5) revising box 21 (7525-V) and box 27 (7525-V-ALT) to read “License No./License Exception Symbol/Authorization”; (6) adding a box for a “Carrier Identification” Code (i.e. SCAC/IATA code); (7) adding a box for “Shipment Reference Number”; (8) adding a box for the “In Bond” number; (9) adding a box for a Hazardous Material Indicator; (10) adding a box for “Used Vehicle Identification No.”; (11) adding a box for “Vehicle Title No.”; and (12) adding a box for “Entry No.” for bonded shipments. All changes to the paper SED format are also applicable to the AES format. These additional items are conditional data elements and will not be reported for all transactions. Therefore, we do not estimate these revisions will increase response time.

Exporters or their agents file individual paper SEDs with the exporting carriers at the time that each export shipment leaves the United States. For AES, exporters or their agents file the export data electronically directly with the U.S. Customs Service, according to the filing provisions established in Title 15, Code of Federal Regulations, Part 30, Subpart E, “Electronic Filing Requirements—Shipper's Export Information”. The carriers submit the paper SED documents to Customs officials when the carrier departs the United States and Customs then transmits the SEDs to the Census Bureau on a flow basis for statistical processing. For AES, the Census Bureau extracts export data files from the Customs AES, for statistical processing.

For exports to Canada, the United States is substituting Canadian import statistics for U.S. exports to Canada in accordance with a Memorandum of Understanding (MOU) signed by both Customs and statistical agencies in both countries. Similarly, under this MOU, Canada is substituting U.S. import statistics for Canadian exports to the United States. These data exchanges eliminate the requirement for U.S. exporters to file any information with the U.S. government. This results in the elimination of over four million SEDs annually. However, for exports to Canada that require a license, a SED or AES record must be filed. Also, a SED or AES record is required for exports from the United States through Canada destined to a country other than Canada.

In addition, the Census Bureau and Customs are continuing to implement and expand the use of the AES for filing shipper's export information electronically. The AES provides a voluntary automated alternative to filing the paper SED. Extensive outreach and education efforts have been and continue to be made to encourage the trade community to use the AES for filing its export data. The Census Bureau has implemented the AESDirect system to allow AES filers to file their export information directly to AES via the Internet. The Census Bureau anticipates a gradual and progressive growth in the number of electronic filers, with a comparable decrease in the number of paper filers over the course of the next few years.

During the past several years the Census Bureau and Customs have also been involved in an intensive outreach and education program to improve compliance with Customs and Census Bureau regulatory provisions in reference to filing Customs manifest documents and the Census Bureau SED/AES documents/records. During these compliance programs, the Census Bureau and Customs conducted seminars with the trade community to inform them of the regulatory filing requirements. In addition, Customs has also increased its enforcement effort for those filers not in compliance with the export laws and regulations. This compliance effort, in addition to the outreach and education effort encouraging the use of electronic filing through the AES has led to a significant increase in both paper and electronic filings. Also, with the expansion of the global economy and the increased emphasis on international trade, the Census Bureau has experienced a significant increase in the number of export transactions being filed. For example, in 1993 the Census Bureau received 1.1 million transactions per month. In 1999 the Census Bureau received 1.7 million transactions per month. This represents an increase of 55 percent in the number of monthly transactions processed by the Census Bureau. The Census Bureau expects this trend to continue for the next several years. All these factors combined, have resulted in an increase in our estimate of annual responses from the previous submission.

In summary, for non-Canadian exports, approximately 55 percent of export transactions are reported electronically using the AES, and approximately 45 percent of export transactions are reported using the paper SEDs. The Census Bureau expects the percentage of electronic filings through the AES to substantially increase during the next several years.

III. Data

OMB Number: 0607-0152.

Form Number: 7525-V, 7525-V-Alternate (Intermodal), Automated Export System (AES) submissions.

Type of Review: Regular Submission.

Affected Public: Exporters, Forwarding Agents, Export Carriers.

Estimated Number of Respondents: 200,000.

Estimated Number of Responses: 13,449,996..

Estimated Time Per Response: 11.166 minutes for 7525-V, 7525-V-Alternate 3.0 minutes for AES submissions.

Estimated Total Annual Burden Hours: 1,284,949.

SEDs, 837,450.

AES, 447,499.

Estimated Total Annual Cost: $19,274,235.

SEDs—837,450 hrs @ $15/hr = $12,561,750.

AES—447,499 hrs @ $15/hr = $6,712,485.

Respondent's Obligation: Mandatory.

Legal Authority: Title 13, United States Code, Chapter 9.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology. Comments submitted in response to this notice will be summarized and/or included in the request for OMB approval of this information collection; they also will become a matter of public record.

Dated: April 25, 2000.
Madeleine Clayton,
Management Analyst, Office of the Chief Information Officer.

[FR Doc. 00-10650 Filed 4-27-00; 8:45 am]

BILLING CODE 3510-07-P